DEPARTMENT OF TRANSPORTATION

National Highway Traffic Safety Administration

[Docket No. NHTSA-2010-0143; Notice 2]

JCA Corporation, Grant of Petition for Decision of Inconsequential Noncompliance

AGENCY: National Highway Traffic Safety Administration, DOT.

ACTION: Notice of Petition Grant.

SUMMARY: JCA Corporation (JCA)¹, has determined that certain Trail America brand Special Trailer “ST” tires that it imported failed to meet the requirements of paragraph S6.5(d) of Federal Motor Vehicle Safety Standard (FMVSS) No. 119, New Pneumatic Tires for Motor Vehicles with a GVWR of more than 4,536 Kilograms (10,000 Pounds) and Motorcycles. JCA has filed an appropriate report pursuant to 49 CFR Part 573, Defect and Noncompliance Responsibility and Reports (dated October 19, 2009).

¹ JCA Corporation (JCA) is a State of Washington corporation that imports replacement motor vehicle equipment.

Pursuant to 49 U.S.C. 30118(d) and 30120(h) (see implementing rule at 49 CFR part 556), JCA has petitioned for an exemption from the notification and remedy requirements of 49 U.S.C. Chapter 301 on the basis that this noncompliance is inconsequential to motor vehicle safety.

Notice of receipt of JCA's petition was published, with a 30-day public comment period, on November 9, 2010, in the Federal Register (75 FR 68854). No comments were received. To view the petition and all supporting documents log onto the Federal Docket Management System Web site at: http://www.regulations.gov/. Then follow the online search instructions to locate docket number “NHTSA-2010-0143.”

For further information on this decision, contact Mr. George Gillespie, Office of Vehicle Safety Compliance, the National Highway Traffic Safety Administration (NHTSA), telephone (202) 366-5299, facsimile (202) 366-7002.

JCA estimates that approximately 899,804 Trail America brand Special Trailer “ST” tires that were manufactured from January 1, 2008, through October 15, 2009, by Tianjin Kings Glory Tire Company, LTD. of Qiaosandao, Yangliuqing, Xiqing Tianjin, China 300380, and imported by JCA are affected.

JCA states that the noncompliance is that the maximum single load labeling and maximum inflation pressures on the sidewalls of the tires are in English units of “lb” and “psi” only; no Metric units are included as required by paragraph S6.5(d) of FMVSS No. 119.

JCA explained that no property damage or accidents have been reported to it or its customers as a result of the subject noncompliance.

JCA further explains that it has taken steps to correct the noncompliance in future production.

JCA also states that it believes the noncompliance is inconsequential to motor vehicle safety because the affected tires fulfill all other relevant requirements of FMVSS No. 119.

In summation, JCA believes that the described noncompliance is inconsequential to motor vehicle safety, and that its petition, to exempt it from providing recall notification of noncompliance as required by 49 U.S.C. 30118 and remedying the recall noncompliance as required by 49 U.S.C. 30120, should be granted.

NHTSA Decision: The agency agrees with JCA that the noncompliance is inconsequential to motor vehicle safety. The agency believes that the true measure of inconsequentiality to motor vehicle safety in this case is that there is no effect on the operational safety of vehicles on which these tires are mounted.

While the correct tire inflation pressure is included on the subject tire sidewalls, it is not marked in both English and Metric unit systems on each sidewall as required by S6.5(d). However, because the tire inflation pressure is available and stated correctly on each tire in English units, it is unlikely that a consumer will not find or will misread pressure units due to the noncompliance. Therefore, the tires, as labeled, are likely to achieve the safety purpose of the standard. In the agency's judgment, the subject incorrect labeling of the tire inflation pressure information will have an inconsequential effect on motor vehicle safety.

NHTSA notes that the statutory provisions (49 U.S.C. 30118 (d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the 899,804 ² tires that JCA no longer controlled at the time that it determined that a noncompliance existed in the subject tires.

² JCA's petition, which was filed under 49 CFR part 556, requests an agency decision to exempt JCA as a manufacturer from the notification and recall responsibilities of 49 CFR Part 573 for 899,804 of the affected tires. However, the decision on this petition does not relieve distributors and dealers of the prohibitions on the sale, offer for sale, or introduction or delivery for introduction into interstate commerce of the noncompliant tires under their control after JCA notified them that the subject noncompliance existed.

In consideration of the foregoing, NHTSA has decided that JCA has met its burden of persuasion that the subject FMVSS No. 119 labeling noncompliances are inconsequential to motor vehicle safety. Accordingly, JCA's petition is granted and the petitioner is exempted from the obligation of providing notification of, and a remedy for, the subject noncompliance under 49 U.S.C. 30118 and 30120.

Authority: (49 U.S.C. 30118, 30120: delegations of authority at CFR 1.50 and 501.8)

Issued on: November 18, 2011.
Claude H. Harris,
Director, Office of Vehicle Safety Compliance.

[FR Doc. 2011-30562 Filed 11-25-11; 8:45 am]

BILLING CODE 4910-59-P